DEPARTMENT OF HOMELAND SECURITY

Coast Guard

33 CFR Part 165

[Docket No. USCG-2020-0354]

Regulated Navigation Area; Lake Washington, Seattle, WA

AGENCY: Coast Guard, DHS.

ACTION: Notification of non-enforcement of regulation.

SUMMARY: The Coast Guard will not enforce the Regulated Navigation Area in Lake Washington, Seattle, WA as part of Seattle Seafair events which typically occur annually in July and August. The Captain of the Port has determined that since Seafair has been cancelled in 2020, enforcement of this regulation is not necessary.

DATES: The Coast Guard does not plan to enforce regulations in 33 CFR 165.1341 in July and August 2020.

FOR FURTHER INFORMATION CONTACT: If you have questions about this notification of non-enforcement, call or email CWO2 William E. Martinez, Sector Puget Sound Waterways Management Division, U.S. Coast Guard; telephone 206-217-6051, email SectorPugetSoundWWM@uscg.mil.

SUPPLEMENTARY INFORMATION: The Coast Guard normally enforces a Regulated Navigation Area in 33 CFR 165.1341 in Lake Washington, Seattle, WA annually immediately before and after the Seafair events, which usually occur during the last week in July and first two weeks of August. This year, the event organizers have cancelled Seafair. Therefore, the Coast Guard does not plan to enforce 33 CFR 165.1341, in July and August 2020.

In addition to this notification of non-enforcement in the Federal Register, if the situation changes and the Captain of the Port determines that the regulated area needs to be enforced, the Captain of the Port will issue a Broadcast Notice to Mariners and provide actual notice of enforcement to any persons in the regulated area.

Dated: June 23, 2020.
L.A. Sturgis,
Captain, U.S. Coast Guard, Captain of the Port Sector Puget Sound.

[FR Doc. 2020-13988 Filed 7-8-20; 8:45 am]

BILLING CODE 9110-04-P